NUCLEAR REGULATORY COMMISSION

2 CFR Chapter XX

5 CFR Chapter XLVIII

10 CFR Chapter I

[NRC-2011-0246]

Retrospective Review Under Executive Order 13579

AGENCY: Nuclear Regulatory Commission.

ACTION: Initial plan for retrospective analysis of existing rules.

SUMMARY: The U.S. Nuclear Regulatory Commission (NRC or the Commission) has made available its initial Plan for retrospective analysis of its existing regulations to determine whether any such regulations should be modified, streamlined, expanded, or repealed. This action is part of the NRC's voluntary implementation of Executive Order (EO) 13579, “Regulation and Independent Regulatory Agencies,” issued by the President on July 11, 2011. The purpose of the NRC's review is to make its regulatory program more effective and less burdensome in achieving its regulatory objectives. The NRC is not instituting a public comment period for the initial Plan at this time but anticipates issuing a revised version for public comment in Calendar Year (CY) 2012 to reflect, as appropriate, any Commission decisions related to the Fukushima Task Force Report.

DATES: November 16, 2011.

ADDRESSES: You can access publicly available documents related to this document using the following methods:

• NRC's Public Document Room (PDR): The public may examine and purchase copies of publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The NRC's initial Plan is in ADAMS under Accession Number ML112690277.

• Federal Rulemaking Web Site: Supporting materials related to this document can be found at http://www.regulations.gov by searching on Docket ID NRC-2011-0246. Address questions about NRC dockets to Carol Gallagher, telephone: (301) 492-3668; email: Carol.Gallagher@nrc.gov.

The NRC's initial Plan may be viewed online on the NRC's Public Web site at http://www.nrc.gov/about-nrc/plans-performance.html#rules.

FOR FURTHER INFORMATION CONTACT: Cindy Bladey, Chief, Rules, Announcements, and Directives Branch, Office of Administration, U.S. Nuclear Regulatory Commission, Washington, DC 20555-0001; telephone: (301) 492-3667 or email: Cindy.Bladey@nrc.gov.

SUPPLEMENTARY INFORMATION:

Background

On January 18, 2011, President Obama issued EO 13563, “Improving Regulation and Regulatory Review.” Executive Order 13563 directs Federal agencies to develop and submit a preliminary plan to the Office of Information and Regulatory Affairs that (1) Considers how the agencies will review existing significant regulations and (2) identifies regulations that can be made more effective or less burdensome in achieving regulatory objectives. Executive Order 13563 did not, however, apply to independent regulatory agencies. Subsequently, on July 11, 2011, the President issued EO 13579, which recommends that independent regulatory agencies also develop retrospective plans similar to those required of other agencies under EO 13563. In response to EO 13579, the NRC is making available an initial Plan on the NRC's Public Web site.

Initial Plan for Retrospective Review

The NRC's initial Plan describes the NRC's plans, processes, and activities relating to retrospective review of existing regulations, including discussion of efforts to (1) Incorporate risk assessments into regulatory decisionmaking and (2) address cumulative effects of regulation.

On July 12, 2011, “Recommendations for Enhancing Reactor Safety in the 21st Century: The Near-Term Task Force Review of Insights from the Fukushima Dai-ichi Accident” (Fukushima Task Force Report, ML111861807), was issued. The Commission has recently directed staff to engage promptly with stakeholders to review and assess the recommendations of the Fukushima Task Force Report for the purpose of providing the Commission with fully-informed options and recommendations. The Commission's decision regarding the options and recommendations contained in the Fukushima Task Force Report may substantially affect the NRC's near-term rulemaking activities. Once the Commission reaches a decision, the NRC will then revise the initial Plan to incorporate any changes to rulemaking activities. The NRC will update the initial Plan on the NRC's Public Web site and publish the updated Plan for public comment in the Federal Register. The NRC anticipates this to occur in CY 2012.

Dated at Rockville, Maryland, this 7th day of November 2011.
For the Nuclear Regulatory Commission.
Annette L. Vietti-Cook,
Secretary of the Commission.

[FR Doc. 2011-29418 Filed 11-15-11; 8:45 am]

BILLING CODE 7590-01-P